DEPARTMENT OF HEALTH AND HUMAN SERVICES

Centers for Disease Control and Prevention

[30Day-10-09AS]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Management Information System for Comprehensive Cancer Control Programs—Existing Collection without an OMB Control Number—National Center for Chronic Disease Prevention and Health Promotion (NCCDPHP), Division of Cancer Prevention and Control, Centers for Disease Control and Prevention (CDC).

Background and Brief Description

The Centers for Disease Control and Prevention (CDC) currently funds the National Comprehensive Cancer Control Program (NCCCP), which provides funding and technical support to all 50 states, the District of Columbia, seven Tribes/Tribal organizations, and seven territories/U.S. Pacific Island jurisdictions. The NCCCP was established to improve the integration and implementation of comprehensive cancer control (CCC) plans across funding and jurisdiction boundaries, and is an outgrowth of efforts involving CDC, the American Cancer Society, the National Cancer Institute, the American College of Surgeons, the North American Association of Central Cancer Registries, and public health leaders at the State and national levels.

All 65 NCCCP-funded programs are required to submit continuation applications and semi-annual progress reports describing performance plans and measures. To date, progress reports have been collected on templates that serve as a guide, but do not standardize the information to be collected. The non-standardized approach to progress reporting has resulted in CCC program reports that vary in content and detail, and cannot be readily compiled to produce summary reports. OMB approval has not previously been obtained for the collection of this information.

CDC seeks OMB approval to implement a new database-driven Management Information System (MIS) for the collection of standardized progress and performance information. The MIS will achieve two objectives. First, the MIS will provide an organized source of information about the activities and accomplishments of all funded NCCCP programs. Secondly, the electronic MIS will provide an efficient mechanism for generating State, regional, and national level summary reports.

Information reported through the MIS will be used by CDC to identify training and technical assistance needs, monitor compliance with cooperative agreement requirements, evaluate progress made in achieving program-specific goals, and obtain information needed to respond to Congressional and other inquiries regarding program activities and effectiveness.

OMB approval is requested for a three-year period. Information will be collected electronically twice per year. The initial burden per response is estimated to be six hours. After respondents have become experienced with entering data, and the amount of new data to be entered decreases, the burden per response is expected to decrease. The total estimated annualized burden hours are 780. There are no costs to respondents other than their time.

Estimated Annualized Burden Hours
Type of respondents | Number of respondents | Number of responses per respondent | Average burden per response (in hours)
NCCCP grantees | 65 | 2 | 6

Dated: December 11, 2009.
Marilyn S. Radke,
Reports Clearance Officer, Centers for Disease Control and Prevention.

[FR Doc. E9-30013 Filed 12-16-09; 8:45 am]

BILLING CODE 4163-18-P